DEPARTMENT OF COMMERCE

International Trade Administration

[A-570-901]

Notice of Amended Preliminary Determination of Sales at Less Than Fair Value: Certain Lined Paper Products from the People's Republic of China

AGENCY: Import Administration, International Trade Administration, Department of Commerce.

EFFECTIVE DATE: June 1, 2006.

SUMMARY: On April 17, 2006, the Department of Commerce (“the Department”) published in the Federal Register our notice of preliminary determination of sales at less than fair value. We are amending our preliminary determination to correct ministerial errors discovered with respect to the antidumping duty margin calculation for Shanghai Lian Li Paper Product Co. Ltd. (“Lian Li”). This correction also affects the margin applied to companies for which the Department preliminarily granted separate-rate status.

FOR FURTHER INFORMATION CONTACT: Marin Weaver or Frances Veith, AD/CVD Operations, Office 8, Import Administration, International Trade Administration, U.S. Department of Commerce, 14th Street and Constitution Avenue, NW., Washington, DC, 20230; telephone: (202) 482-2336 or 482-4295, respectively.

SUPPLEMENTARY INFORMATION:

Background

On April 17, 2006, we published in the Federal Register the preliminary determination that certain lined paper products from the People's Republic of China (PRC) are being, or are likely to be, sold in the United States at less than fair value (LTFV), as provided in section 733 of the Tariff Act of 1930, as amended (“the Act”). See Preliminary Determination of Sales at Less Than Fair Value, Affirmative Critical Circumstances, In Part, and Postponement of Final Determination: Certain Lined Paper Products from the People's Republic of China, 71 FR 16965 (April 17, 2006).

On April 17, 2006, Watanabe Paper Product (Shanghai) Co., Ltd. (“Watanabe Shanghai”); Hotrock Stationery (Shenzhen) Co. (“Watanabe Shenzhen”); and Watanabe Paper Product (Linqing) Co., Ltd. (“Watanabe Linqing”), collectively (the “Watanabe Group”), filed timely allegations of significant ministerial errors contained in the Department's preliminary determination. On April 18, 2006, the following parties also filed timely allegations of significant ministerial errors: the Association of American School Paper Suppliers and its individual members (MeadWestvaco Corporation; Norcom, Inc.; and Top Flight, Inc.) (“Petitioner”), Shanghai Pudong Wenbao Paper Products Factory (“Wenbao Paper”), Shanghai Glistar Paper Products Co., Ltd. (“Shanghai Glistar”), Linqing Glistar Paper Products Co., Ltd. (“Linqing Glistar”), and Paperline Limited (“Paperline”) (collectively “Wenbao”), and Maxleaf Stationery Ltd. After reviewing the allegations, we have determined that the preliminary determination included significant ministerial errors. Therefore, in accordance with 19 CFR 351.224(e), we have made changes, as described below, to the preliminary determination.

Scope of Investigation

The scope of this investigation includes certain lined paper products, typically school supplies,¹ composed of or including paper that incorporates straight horizontal and/or vertical lines on ten or more paper sheets,² including but not limited to such products as single- and multi-subject notebooks, composition books, wireless notebooks, looseleaf or glued filler paper, graph paper, and laboratory notebooks, and with the smaller dimension of the paper measuring 6 inches to 15 inches (inclusive) and the larger dimension of the paper measuring 8-3/4 inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this petition whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

¹ For purposes of this scope definition, the actual use or labeling of these products as school supplies or non-school supplies is not a defining characteristic.

² There shall be no minimum page requirement for looseleaf filler paper.

Specifically excluded from the scope of this investigation are:

• unlined copy machine paper;

• writing pads with a backing (including but not limited to products commonly known as “tablets,” “note pads,” “legal pads,” and “quadrille pads”), provided that they do not have a front cover (whether permanent or removable). This exclusion does not apply to such writing pads if they consist of hole-punched or drilled filler paper;

• three-ring or multiple-ring binders, or notebook organizers incorporating such a ring binder provided that they do not include subject paper;

• index cards;

• printed books and other books that are case bound through the inclusion of binders board, a spine strip, and cover wrap;

• newspapers;

• pictures and photographs;

• desk and wall calendars and organizers (including but not limited to such products generally known as “office planners,” “time books,” and “appointment books”);

• telephone logs;

• address books;

• columnar pads & tablets, with or without covers, primarily suited for the recording of written numerical business data;

• lined business or office forms, including but not limited to: preprinted business forms, lined invoice pads and paper, mailing and address labels, manifests, and shipping log books;

• lined continuous computer paper;

• boxed or packaged writing stationary (including but not limited to products commonly known as “fine business paper,” “parchment paper,” and “letterhead”), whether or not containing a lined header or decorative lines;

• Stenographic pads (“steno pads”), Gregg ruled,³ measuring 6 inches by 9 inches;

³ “Gregg ruling” consists of a single- or double-margin vertical ruling line down the center of the page. For a six-inch by nine-inch stenographic pad, the ruling would be located approximately three inches from the left of the book.

Also excluded from the scope of this investigation are the following trademarked products:

• Fly™ lined paper products: A notebook, notebook organizer, loose or glued note paper, with papers that are printed with infrared reflective inks and readable only by a Fly™ pen-top computer. The product must bear the valid trademark Fly™.⁴

⁴ Products found to be bearing an invalidly licensed or used trademark are not excluded from the scope.

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™.⁵

⁵ Products found to be bearing an invalidly licensed or used trademark are not excluded from the scope.

• FiveStar®Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is .019 inches (within normal manufacturing tolerances) and rear cover is .028 inches (within normal manufacturing tolerances). Integral with the stitching that attaches the polyester spine covering, is captured both ends of a 1” wide elastic fabric band. This band is located 2-3/8” from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™.⁶

⁶ Products found to be bearing an invalidly licensed or used trademark are not excluded from the scope.

• FiveStar Flex™: A notebook, a notebook organizer, or binder with plastic polyolefin front and rear covers joined by 300 denier polyester spine cover extending the entire length of the spine and bound by a 3-ring plastic fixture. The polyolefin plastic covers are of a specific thickness; front cover is .019 inches (within normal manufacturing tolerances) and rear cover is .028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™.⁷

⁷ Products found to be bearing an invalidly licensed or used trademark are not excluded from the scope.

Merchandise subject to this proceeding is typically imported under headings 4820.10.2050, 4810.22.5044, 4811.90.9090 of the Harmonized Tariff Schedule of the United States (HTSUS).⁸ The tariff classifications are provided for convenience and customs purposes; however, the written description of the scope of the proceeding is dispositive.

⁸ During the investigation additional HTSUS headings may be identified.

Analysis of Alleged Significant Ministerial Errors

A ministerial error is defined in 19 CFR 351.224(f) as “an error in addition, subtraction, or other arithmetic function, clerical error resulting from inaccurate copying, duplication, or the like, and any other similar type of unintentional error which the Secretary considers ministerial.” With respect to preliminary determinations, 19 CFR 351.224(e) provides that the Department “will analyze any comments received and, if appropriate, correct any significant ministerial error by amending the preliminary determination. . . .” A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g). We have determined that the preliminary determination contained a “significant” ministerial error with respect to Lian Li. As a result, the Department is publishing this amendment to its preliminary determination pursuant to 19 CFR 351.224(e).

Amended Preliminary Determination

Because the error alleged by the petitioner regarding the margin calculation for Lian Li was significant, we have amended the preliminary margin calculation for Lian Li. See Memorandum to Wendy J. Frankel, Director, AD/CVD Operations, Office 8, from Charles Riggle, Program Manager, AD/CVD Operations, Office 8: Antidumping Duty Investigation of Certain Lined Paper Products from the People's Republic of China: Allegations of Ministerial Errors (“Ministerial Error Memo”), dated May 17, 2006. In addition, we have amended the weighted-average dumping margin applicable to companies that were granted separate-rate status. We have also amended the Department's preliminary determination in which we denied separate-rate status to You-You Paper Products (Suzhou) Co., Ltd. (“You-You”) and will preliminarily grant separate-rate status to You-You because the Department overlooked documentation included in You-You's separate-rate application. See Ministerial Error Memo; see, also, Memorandum to The File through Charles Riggle, Program Manager, AD/CVD Enforcement, Office 8, from Marin Weaver and Paul Stolz, International Trade Compliance Analysts, AD/CVD Enforcement, Office 8: Certain Lined Paper Products from the People's Republic of China: You-You Paper Products (Suzhou) Co., Ltd. (“You-You”) Separate Rate, dated May 4, 2006.

We have not amended the preliminary determination with respect to the Watanabe Group because we found the Watanabe Group's allegations do not meet the definition of a ministerial error as contained in 19 CFR 351.224(f). See Ministerial Error Memo. We have also not amended the preliminary determination with respect to Maxleaf or Wenbao because we found that the allegations made by Maxleaf and Wenbao do not meet the definition of a ministerial error as contained in 19 CFR 351.224(f). See Ministerial Error Memo.

Finally, although no party commented on this issue, the Department is amending its preliminary finding of negative critical circumstances with respect to Excel Sheen Limited (“Excel Sheen”). Because the Department preliminarily denied separate-rate status to Excel Sheen, Excel Sheen was considered part of the PRC entity. The Department preliminarily found affirmative critical circumstances for the PRC entity. Therefore, the Department's preliminary finding of critical circumstances for the PRC entity includes Excel Sheen. See Ministerial Error Memo.

As a result of corrections of ministerial errors, the weighted-average dumping margins are as follows:

Certain Lined Paper Products from the PRC - Weighted-average Dumping Margins
Exporter | Producer | Original PreliminaryMargin (Percent) | Amended Preliminary Margin (Percent)
Watanabe Paper Product (Linqing) Co., Ltd. | Watanabe Paper Product (Linqing) Co., Ltd. | 143.49 | 143.49
Watanabe Paper Product (Linqing) Co., Ltd. | Hotrock Stationery (Shenzhen) Co., Ltd. | 143.49 | 143.49
Watanabe Paper Product (Linqing) Co., Ltd. | Watanabe Paper Products (Shanghai) Co., Ltd. | 143.49 | 143.49
Hotrock Stationery (Shenzhen) Co., Ltd. | Hotrock Stationery (Shenzhen) Co., Ltd. | 143.49 | 143.49
Hotrock Stationery (Shenzhen) Co., Ltd. | Watanabe Paper Product (Linqing) Co., Ltd. | 143.49 | 143.49
Hotrock Stationery (Shenzhen) Co., Ltd. | Watanabe Paper Products (Shanghai) Co., Ltd. | 143.49 | 143.49
Watanabe Paper Products (Shanghai) Co., Ltd. | Watanabe Paper Products (Shanghai) Co., Ltd. | 143.49 | 143.49
Watanabe Paper Products (Shanghai) Co., Ltd. | Hotrock Stationery (Shenzhen) Co., Ltd. | 143.49 | 143.49
Watanabe Paper Products (Shanghai) Co., Ltd. | Watanabe Paper Product (Linqing) Co., Ltd. | 143.49 | 143.49
Shanghai Lian Li Paper Products Co., Ltd. | Shanghai Lian Li Paper Products Co., Ltd. | 52.10 | 80.18
Shanghai Lian Li Paper Products Co., Ltd. | Sentian Paper Products Co., Ltd | 52.10 | 80.18
Shanghai Lian Li Paper Products Co., Ltd. | Shanghai Miaopaofang Paper Products Co., Ltd | 52.10 | 80.18
Shanghai Lian Li Paper Products Co., Ltd. | Shanghai Pudong Wenbao Paper Products Co., Ltd. | 52.10 | 80.18
Shanghai Lian Li Paper Products Co., Ltd. | Changshu Changjiang Printing Co., Ltd. | 52.10 | 80.18
Shanghai Lian Li Paper Products Co., Ltd. | Shanghai Loutang Stationery Factory | 52.10 | 80.18
Shanghai Lian Li Paper Products Co., Ltd. | Shanghai Beijia Paper Products Co., Ltd. | 52.10 | 80.18
Ningbo Guangbo Imports and Exports Co. Ltd. | Ningbo Guangbo Plastic Products Manufacture Co., Ltd. | 135.02 | 137.62
Yalong Paper Products (Kunshan) Co., Ltd | Yalong Paper Products (Kunshan) Co., Ltd | 135.02 | 137.62
Suzhou Industrial Park Asia Pacific Paper Converting Co., Ltd. | Suzhou Industrial Park Asia Pacific Paper Converting Co., Ltd. | 135.02 | 137.62
Sunshine International Group (HK) Ltd. | Dongguan Shipai Tonzex Electronics Plastic Stationery Factory; | 135.02 | 137.62
Sunshine International Group (HK) Ltd. | Dongguan Kwong Wo Stationery Co., Ltd.; | 135.02 | 137.62
Sunshine International Group (HK) Ltd. | Hua Lian Electronics Plastic Stationery Co., Ltd. | 135.02 | 137.62
Suzhou Industrial Park You-You Trading Co., Ltd. | Linqing YinXing Paper Co., Ltd. | 135.02 | 137.62
Suzhou Industrial Park You-You Trading Co., Ltd. | Jiaxing Seagull Paper Products Co., Ltd. | 135.02 | 137.62
Suzhou Industrial Park You-You Trading Co., Ltd. | Shenda Paper Product Factory | 135.02 | 137.62
Suzhou Industrial Park You-You Trading Co., Ltd. | Lianyi Paper Product Factory | 135.02 | 137.62
Suzhou Industrial Park You-You Trading Co., Ltd. | Changhang Paper Product Factory | 135.02 | 137.62
Suzhou Industrial Park You-You Trading Co., Ltd. | Tianlong Paper Product Factory | 135.02 | 137.62
Suzhou Industrial Park You-You Trading Co., Ltd. | Rugao Paper Printer Co., Ltd. | 135.02 | 137.62
Suzhou Industrial Park You-You Trading Co., Ltd. | Yinlong Paper Product Factory | 135.02 | 137.62
You-You Paper Products (Suzhou) Co. Ltd. | Rugao Paper Printer Co. Ltd. | 135.02 | 137.62
Planet International Company Ltd. | Shanghai Gloves & Headwear I/E Co., Ltd. | 135.02 | 137.62
Planet International Company Ltd. | Shanghai East Best Arts & Crafts Co., Ltd. | 135.02 | 137.62
Planet International Company Ltd. | Mengcheng County No. 3 Printing Factory | 135.02 | 137.62
Planet International Company Ltd. | Shanghai Huhui Paper Product Factory | 135.02 | 137.62
Planet (Hong Kong) International Company Ltd. | Shanghai Gloves & Headwear I/E Co., Ltd. | 135.02 | 137.62
Planet (Hong Kong) International Company Ltd. | Shanghai East Best Arts & Crafts Co., Ltd. | 135.02 | 137.62
Planet (Hong Kong) International Company Ltd. | Zhejiang Arts & Crafts Imp. & Exp. Shanghai Pudong Co., Ltd. | 135.02 | 137.62
Planet (Hong Kong) International Company Ltd. | Shanghai Xin Zhi Liang Cultural Product Co., Ltd. | 135.02 | 137.62
Planet (Hong Kong) International Company Ltd. | Mengcheng County No. 3 Printing Factory | 135.02 | 137.62
Planet (Hong Kong) International Company Ltd. | Shanghai Huhui Paper Product Factory | 135.02 | 137.62
Planet (Hong Kong) International Company Ltd. | Shanghai Hongxiang Material Sales Co. | 135.02 | 137.62
Haijing Stationery (Shanghai) Co., Ltd. | Haijing Stationery (Shanghai) Co., Ltd. | 135.02 | 137.62
Orient International Holding Shanghai Foreign Trade Co., Ltd. | Yalong Paper Products (Kunshan) Co., Ltd. | 135.02 | 137.62
Orient International Holding Shanghai Foreign Trade Co., Ltd. | Shanghai Comwell Stationery Co., Ltd. | 135.02 | 137.62
Orient International Holding Shanghai Foreign Trade Co., Ltd. | Yuezhou Paper Co., Ltd. | 135.02 | 137.62
Orient International Holding Shanghai Foreign Trade Co., Ltd. | Changshu Guangming Stationery Co., Ltd. | 135.02 | 137.62
Shanghai Foreign Trade Enterprise Co., Ltd. | Shanghai Xin Zhi Liang Culture Products Co., Ltd.; | 135.02 | 137.62
Shanghai Foreign Trade Enterprise Co., Ltd. | Shangyu Zhongsheng Paper Products Co., Ltd.; | 135.02 | 137.62
Shanghai Foreign Trade Enterprise Co., Ltd. | Shanghai Miaoxi Paper Products Factory; | 135.02 | 137.62
Shanghai Foreign Trade Enterprise Co., Ltd. | Shanghai Xueya Stationery Co., Ltd. | 135.02 | 137.62
Anhui Light Industries International Co., Ltd. | Shanghai Pudong Wenbao Paper Products Factory; | 135.02 | 137.62
Anhui Light Industries International Co., Ltd. | Foshan City Wenhai Paper Factory | 135.02 | 137.62
Fujian Hengda Group Co., Ltd., | Fujian Hengda Group Co., Ltd., | 135.02 | 137.62
Changshu Changjiang Printing Co., Ltd. | Changshu Changjiang Paper Industry Co., Ltd. | 135.02 | 137.62
Jiaxing Te Gao Te Paper Products Co., Ltd | Jiaxing Seagull Paper Products Co., Ltd. | 135.02 | 137.62
Jiaxing Te Gao Te Paper Products Co., Ltd | Jiaxing Boshi Paper Products Co., Ltd. | 135.02 | 137.62
Chinapack Ningbo Paper Products Co., Ltd. | Jiaxing Te Gao Te Paper Products Co., Ltd. | 135.02 | 137.62
Linqing Silver Star Paper Products Co., Ltd. | Linqing Silver Star Paper Products Co., Ltd. | 135.02 | 137.62
Wah Kin Stationery and Paper Product Limited | Shenzhen Baoan Waijing Development Company | 135.02 | 137.62
Shanghai Pudong Wenbao Paper Products Factory | Shanghai Pudong Wenbao Paper Products Factory | 135.02 | 137.62
Shanghai Pudong Wenbao Paper Products Factory | Linqing Glistar Paper Products Co., Ltd. | 135.02 | 137.62
Shanghai Pudong Wenbao Paper Products Factory | Changshu Changjiang Printing Co., Ltd. | 135.02 | 137.62
Shanghai Pudong Wenbao Paper Products Factory | Linqing Silver Star Paper Products Co., Ltd. | 135.02 | 137.62
Paperline Limited | Shanghai Pudong Wenbao Paper Products Factory | 135.02 | 137.62
Paperline Limited | Linqing Glistar Paper Products Co., Ltd. | 135.02 | 137.62
Paperline Limited | Changshu Changjiang Printing Co., Ltd. | 135.02 | 137.62
Paperline Limited | Linqing Silver Star Paper Products Co., Ltd. | 135.02 | 137.62
Paperline Limited | Jiaxing Te Gao Te Paper Products Co., Ltd. | 135.02 | 137.62
Paperline Limited | Yantai License Printing & Making Co., Ltd. | 135.02 | 137.62
Paperline Limited | Anhui Jinhua Import & Export Co., Ltd. | 135.02 | 137.62
Essential Industries Limited | Dongguan Yizhi Gao Paper Products Ltd. | 135.02 | 137.62
MGA Entertainment (H.K.) Limited | Kon Dai (Far East) Packaging Co., Ltd. | 135.02 | 137.62
PRC Entity |  | 258.21 | 258.21

The collection of bonds or cash deposits and suspension of liquidation will be revised accordingly and parties will be notified of this determination, in accordance with section 733(d) and (f) of the Act.

International Trade Commission Notification

In accordance with section 733(f) of the Act, we have notified the International Trade Commission (“ITC”) of our amended preliminary determination. If our final determination is affirmative, the ITC will make its final determination as to whether the domestic industry in the United States is materially injured, or threatened with material injury, by reason of imports of certain lined paper products, or sales (or the likelihood of sales) for importation, of the subject merchandise within 45 days of our final determination.

This determination is issued and published in accordance with sections 733(f) and 777(i)(1) of the Act and 19 CFR 351.224(e).

Dated: May 19, 2006.
David M. Spooner,
Assistant Secretary for Import Administration.

[FR Doc. E6-8517 Filed 5-31-06; 8:45 am]

BILLING CODE 3510-DS-S